DEPARTMENT OF JUSTICE

Antitrust Division

Notice Pursuant to the National Cooperative Research and Production Act of 1993—Cooperative Research Group on Particle Sensor Performance and Durability

Notice is hereby given that, on March 15, 2017, pursuant to Section 6(a) of the National Cooperative Research and Production Act of 1993, 15 U.S.C. 4301 et seq. (“the Act”), Southwest Research Institute—Cooperative Research Group on Particle Sensor Performance and Durability (“PSPD-II”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Continental Automotive Systems, Inc., Deer Park, IL; Coorstek Sensors, LLC, Grand Junction, CO; Cummins Inc., Columbus, IN; Denso Corporation, Southfield, MI; FCA US LLC, Auburn Hills, MI; Hino Motors, Ltd., Tokyo, JAPAN; John Deere, Waterloo, IA; NGK Spark Plug Co., Ltd., Nagota, JAPAN; Stoneridge, Warren, OH; and Tenneco Automotive Operating Company Inc., Jackson, MI. The general area of PSPD-II's planned activity is to critically investigate the performance and durability of various exhaust particle and gaseous sensor technologies on different engine platforms.

Patricia A. Brink,
Director of Civil Enforcement, Antitrust Division.

[FR Doc. 2017-07589 Filed 4-13-17; 8:45 am]

BILLING CODE P